DEPARTMENT OF TRANSPORTATION

Federal Aviation Administration

14 CFR Part 71

[Docket No. FAA-2019-0638; Airspace Docket No. 19-ASO-7]

RIN 2120-AA66

Amendment and Removal of Air Traffic Service (ATS) Routes; Southeastern United States

AGENCY: Federal Aviation Administration (FAA), DOT.

ACTION: Final rule.

SUMMARY: This action amends 25 jet routes, removes 7 jet routes, and removes 1 high altitude area navigation (RNAV) route (Q-route) in the southeastern United States. This action supports the Northeast Corridor Atlantic Route Project to improve the efficiency of the National Airspace System (NAS) and reduce dependency on ground-based navigational systems.

DATES: Effective date 0901 UTC, January 30, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email: fedreg.legal@nara.gov, or go to https://www.archives.gov/federal-register/cfr/ibr-locations.html.

FOR FURTHER INFORMATION CONTACT: Paul Gallant, Rules and Regulations Group, Policy Directorate, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure in the National Airspace System as necessary to preserve the safe and efficient flow of air traffic.

History

The FAA published a notice of proposed rulemaking in the Federal Register for Docket No. FAA-2019-0638 (84 FR 48086; September 12, 2019) to amend or remove certain air traffic service routes in the southeastern United States. Interested parties were invited to participate in this rulemaking effort by submitting written comments on the proposal. No comments were received.

Jet routes are published in paragraph 2004, and high altitude RNAV routes are published in paragraph 2006, respectively, of FAA Order 7400.11D dated August 8, 2019, and effective September 15, 2019, which is incorporated by reference in 14 CFR 71.1. The jet routes and Q-route listed in this document will be subsequently published in, or removed from, the Order.

FAA Order 7400.11, Airspace Designations and Reporting Points, is published yearly and effective on September 15.

Availability and Summary of Documents for Incorporation by Reference

This document amends FAA Order 7400.11D, Airspace Designations and Reporting Points, dated August 8, 2019, and effective September 15, 2019. FAA Order 7400.11D is publicly available as listed in the ADDRESSES section of this document. FAA Order 7400.11C lists Class A, B, C, D, and E airspace areas, air traffic service routes, and reporting points.

The Rule

The FAA is amending Title 14 Code of Federal Regulations (14 CFR) part 71 by amending 25 jet routes, removing 7 jet routes, and removing one high altitude RNAV route (Q-route) in the southeastern United States. This action complements the Florida Metroplex Project by removing certain jet route segments that are being replaced by RNAV routing. Additionally, the jet route changes will reduce aeronautical chart clutter by removing unneeded route segments.

The jet route changes are as follows:

J-4: J-4 currently extends between the Los Angeles, CA, VORTAC and the Wilmington, NC, VORTAC. This action removes the segments of the route between the Colliers, SC, VORTAC and the Wilmington VORTAC. As amended, the route extends between Los Angeles, CA and Colliers, SC.

J-20: J-20 currently extends between the Seattle, WA, VORTAC and the Orlando, FL, VORTAC. This action removes the segments between the Seminole, FL, VORTAC and the Orlando VORTAC. The amended route extends between Seattle, WA and Seminole, FL.

J-37: J-37 currently extends between the Hobby, TX, VOR/DME and the Massena, NY, VORTAC. This action removes the route segments between Montgomery, AL, VORTAC and the Lynchburg, VA, VOR/DME leaving a gap in the route. As amended, J-37 consists of three separate segments: between Hobby, TX and Montgomery, AL; followed by a gap; and then between Lynchburg, VA and the Coyle, NJ, VORTAC; followed by a gap; and then between the Kennedy, NY, VOR/DME, and Massena, NY.

J-41: J-41 currently extends between the Key West, FL, VORTAC, and the Omaha, NE, VORTAC. This action removes the portion of the route between the Key West and the Seminole, FL, VORTAC. The amended route extends between Seminole, FL and Omaha, NE.

J-43: J-43 currently extends between the Dolphin, FL, VORTAC, and the Carleton, MI, VOR/DME. This action removes the segments between Dolphin, FL, and the currently charted NEDDY, GA, Fix (defined by the intersection of the Cross City, FL VORTAC 322° and the Seminole, FL, VORTAC 359° radials). The amended route extends between the intersection of the Cross City, FL, VORTAC 322° and the Seminole, FL, VORTAC 359° radials (the NEDDY, GA, Fix) and Carleton, MI.

J-45: J-45 currently extends between the Virginia Key, FL, VOR/DME and the Aberdeen, SD, VOR/DME. This action removes the segments between the Virginia Key, FL, VOR/DME, and the Alma, GA, VORTAC. The amended route extends between Alma, GA and Aberdeen, SD.

J-46: J-46 currently extends between the Tulsa, OK, VORTAC, and the Alma, GA, VORTAC. This action removes the segments between the Volunteer, TN, VORTAC, and the Alma, GA, VORTAC. The amended route extends between Tulsa, OK and Volunteer, TN.

J-47: J-47 currently extends between the Charleston, SC, VORTAC, and the Spartanburg, SC, VORTAC. The FAA is removing this entire route.

J-51: J-51 currently extends between the Craig, FL, VORTAC, and the Yardley, NJ, VOR/DME. This action removes the segments between the Craig, FL, VORTAC, and the charted TUBAS, NC, Fix (defined by the intersection of the Columbia, SC, VORTAC 042°, and the Flat Rock, VA, VORTAC 212° radials). As amended, the route extends between the intersection of the Columbia, SC 042° and the Flat Rock, VA 212° radials (the TUBAS, NC, Fix), and the Yardley VOR/DME.

J-52: J-52 currently extends between Vancouver, BC, Canada, VOR/DME and the Richmond, VA, VOR/DME. This action removes the segments between the Columbia, SC, VORTAC, and the charted TUBAS, NC, Fix (defined by the intersection of the Columbia VORTAC 042° and the Flat Rock, VA, VORTAC 212° radials). As amended J-52 extends, in two parts, between Vancouver, BC, Canada, and Columbia, SC; followed by a gap in the route, then resuming between the intersection of the Columbia, SC 042° and the Flat Rock, VA, 212° radials (the TUBAS, NC, Fix) and Richmond, VA. The portion within Canada is excluded.

J-53: J-53 currently extends between the Dolphin, FL, VORTAC, and the Pulaski, VA, VORTAC. This action removes the segments between Dolphin, FL, and the charted DUNKN, GA, Fix (defined by the intersection of the Craig, FL, VORTAC 347° and the Colliers, SC, VORTAC 174° radials). The amended route extends between the DUNKN Fix, and Pulaski, VA.

J-55: J-55 currently extends between the Dolphin, FL, VORTAC, and the Presque Isle, ME, VOR/DME. This action removes the segments between the Dolphin VORTAC, and the Charleston, SC, VORTAC. The amended route extends between Charleston, SC, and Presque Isle, ME.

J-73: J-73 currently extends between the Dolphin, FL, VORTAC and the Northbrook, IL, VOR/DME. This action removes the segments between the Dolphin VORTAC, FL, and the WYATT, FL, Fix (defined by the intersection of the Seminole, FL, VORTAC 344° and the Cross City, FL, VORTAC 322° radials). The amended route extends between the intersection of the Seminole VORTAC 344° and the Cross City VORTAC 322° radials (the WYATT, FL, Fix), and Northbrook, IL.

J-75: J-75 currently extends between the Dolphin, FL, VORTAC, and the Boston, MA, VOR/DME. This action removes the segments between the Dolphin VORTAC, and the Greensboro, NC, VORTAC. As amended, the route extends between Greensboro, NC and Boston, MA.

J-79: J-79 currently extends between the Key West, FL, VORTAC, and the Bangor, ME, VORTAC. This action removes the segments between the Key West VORTAC, and the Charleston, SC, VORTAC. The amended route extends between Charleston, SC, and Bangor, ME.

J-81: J-81 currently extends between the Dolphin, FL, VORTAC, and the Colliers, SC, VORTAC. This action removes the segments between the Dolphin VORTAC, and the charted DUNKN, GA, Fix (defined by the intersection of the Craig, FL, VORTAC 347° and the Colliers VORTAC 174° radials). The amended route extends between the intersection of the Craig VORTAC 347° and the Colliers VORTAC 174° radials (the DUNKN, GA, Fix) and the Colliers VORTAC.

J-85: J-85 currently extends between the Dolphin, FL, VORTAC and the Dryer, OH, VOR/DME. This action removes the segments between the Dolphin VORTAC, and the Alma, GA, VORTAC. The amended route extends between Alma, GA, and Dryer, OH. In addition, the words “The portion within Canada is excluded” is removed from the J-85 description because that segment was previously eliminated from the route but inadvertently left in the description.

J-89: J-89 currently extends between the intersection of the Taylor, FL, VORTAC 176° and the Valdosta, GA, VOR/DME 156° radials (the HITTR, FL, Fix) and the Winnipeg, MB, Canada, VORTAC. This action removes the segments between the intersection of the Taylor VORTAC 176° and the Valdosta VOR/DME radials (the HITTR, FL, Fix) and the charted ICBOD, GA, Fix (defined by the intersection of the Atlanta, GA, VORTAC 161° and the Alma, GA, VORTAC 252° radials). The amended route extends between the intersection of the Atlanta VORTAC 161°, and the Alma VORTAC 252° radials, and Winnipeg, MB, Canada. The portion within Canada is excluded.

J-91: J-91 currently extends between the intersection of the Orlando, FL, VORTAC 274° and the Cross City, FL, VORTAC 133° radials (the INPIN, FL, Fix), and the Henderson, WV, VORTAC. This action removes the segments between the intersection of the Orlando VORTAC 274° and the Cross City VORTAC 133° radials, and the intersection of the Cross City 338° and the Atlanta, GA, VORTAC 169° radials (currently charted as the JOHNN, GA, Fix). The amended route extends between the intersection of the Cross City VORTAC 338° and the Atlanta VORTAC 169° radials, and the Henderson VORTAC.

J-103: J-103 currently extends between the Ormond Beach, FL, VORTAC, and the Savannah, GA, VORTAC. This action removes the entire route. RNAV route Q-93 provides alternative routing in this area.

J-113: J-113 currently extends between the Virginia Key, FL, VOR/DME and the Craig, FL, VORTAC. This action removes the entire route. RNAV route Q-77 can be used as an alternative in this area.

J-119: currently J-119 extends between the St. Petersburg, FL, VORTAC and the Taylor, FL, VORTAC. This action removes the entire route. A combination of RNAV routes Q-79, Q-65, and Q-99 are available as alternatives in this area.

J-121: J-121 currently extends between the Craig, FL, VORTAC, and the Kennebunk, ME, VOR/DME. This action removes the segments between the Craig VORTAC, and the Charleston, SC, VORTAC. The amended route extends between Charleston, SC, and Kennebunk, ME.

J-151: J-151 currently extends between the Cross City, FL, VORTAC, and the Whitehall, MT, VOR/DME. This action removes the segments between the Cross City, FL, VORTAC, and the Vulcan, AL, VORTAC. The amended route extends between Vulcan, AL, and Whitehall, MT.

J-165: J-165 currently extends between the Charleston, SC, VORTAC and the Richmond, VA, VOR/DME. This action removes the segment between the Charleston VORTAC and the intersection of the Charleston VORTAC 025° and the Florence, SC, VORTAC 085° radials (the DWYTE, SC, Fix). The amended route extends between the intersection of the Charleston VORTAC 025° and the Florence VORTAC 085° radials, and the Richmond VOR/DME.

J-174: J-174 currently extends between the Craig, FL, VORTAC, and the intersection of the Marconi, MA, VOR/DME 090°, and the Nantucket, MA, VOR/DME 066° radials (the HERIN, MA, Fix). This action removes the segments between the Craig VORTAC and the Charleston, SC, VORTAC. The amended route extends between the Charleston VORTAC and the intersection of the Marconi VOR/DME 090° and the Nantucket VOR/DME 066° radials.

J-207: J-207 currently extends between the Savannah, GA, VORTAC and the Franklin, VA, VORTAC. This action removes the segments between the Savannah, GA, VORTAC and the Florence, SC, VORTAC. The amended route extends between the Florence VORTAC and the Franklin VORTAC.

J-208: J-208 currently extends between the Athens, GA, VOR/DME, and the Hopewell, VA, VORTAC. This action removes the entire route.

J-209: J-209 currently extends between the Greenwood, SC, VORTAC, and the intersection of the Coyle, NJ, VORTAC 036° and the Robbinsville, NJ, VORTAC 136° radials (the WHITE, NJ, Fix). The action removes the segment between the Greenwood VORTAC and the Raleigh-Durham, NC, VORTAC. The amended route extends between the Raleigh-Durham VORTAC and the intersection of the Coyle VORTAC 036° and the Robbinsville VORTAC 136° radials.

J-210: J-210 currently extends between the intersection of the Savannah, GA, VORTAC 256° and the Vance, SC, VORTAC 221° radials (the DUNKN, GA, Fix), and the Wilmington, NC, VORTAC. This action removes the segment between the Savannah VORTAC, and the Vance VORTAC. The amended route extends between Vance, SC, and Wilmington, NC.

J-614: J-614 currently extends between the Sarasota, FL, VOR/DME, and the Dolphin, FL, VORTAC. This action removes the entire route.

J-616: J-616 currently extends between the Sarasota, FL, VOR/DME, and the Dolphin, FL, VORTAC. This action removes the entire route.

In addition to the above jet route changes, this action removes one high altitude RNAV route as follows:

Q-112: Q-112 currently extends between the DEFUN, FL, fix, and the INPIN, FL, fix. This action removes the entire route because a number of other Q-routes in the vicinity are available as alternatives.

Jet routes are published in paragraph 2004; and United States Area Navigation Routes are published in paragraph 2006, respectively, of FAA Order 7400.11D dated August 8, 2019, and effective September 15, 2019, which is incorporated by reference in 14 CFR 71.1. The jet routes and RNAV route listed in this document will be subsequently amended in, or removed from, the Order.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying 25 jet routes, removing seven jet routes, and removing one high altitude RNAV route in the southeastern United States qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to cause any potentially significant environmental impacts. In accordance with FAA Order 1050.1F, paragraph 5-2 regarding Extraordinary Circumstances, the FAA has reviewed this action for factors and circumstances in which a normally categorically excluded action may have a significant environmental impact requiring further analysis. The FAA has determined no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 2004 Jet Routes.

* * * * *

J-4 [Amended]

From Los Angeles, CA, via INT Los Angeles 083° and Twentynine Palms, CA, 269° radials; Twentynine Palms; Parker, CA; Buckeye, AZ; San Simon, AZ; Newman, TX; Wink, TX; Abilene, TX; Ranger, TX; Belcher, LA; Magnolia, MS; Meridian, MS; Montgomery, AL; INT Montgomery 051° and Colliers, SC, 268° radials; to Colliers.

J-20 [Amended]

From Seattle, WA, via Yakima, WA; Pendleton, OR; Donnelly, ID; Pocatello, ID; Rock Springs, WY; Falcon, CO; Hugo, CO; Lamar, CO; Liberal, KS; INT Liberal 137° and Will Rogers, OK, 284° radials; Will Rogers; Belcher, LA; Magnolia, MS; Meridian, MS; Montgomery, AL; to Seminole, FL.

J-37 [Amended]

From Hobby, TX, via INT of the Hobby 090° and Harvey, LA, 266° radials; Harvey; Semmes, AL; to Montgomery, AL. From Lynchburg, VA; Gordonsville, VA; Brooke, VA; INT Brooke 067° and Coyle, NJ, 226° radials; to Coyle. From Kennedy, NY; Kingston, NY; Albany, NY; to Massena, NY.

J-41 [Amended]

From Seminole, FL; Montgomery, AL; Vulcan, AL; Memphis, TN; Springfield, MO, Kansas City, MO, to Omaha, NE.

J-43 [Amended]

From INT Cross City, FL 322° and Seminole, FL 359° radials; Atlanta, GA; Volunteer, TN; Falmouth, KY; Rosewood, OH; to Carleton, MI.

J-45 [Amended]

From Alma, GA; Macon, GA; Atlanta, GA; Nashville, TN; St Louis, MO; Kirksville, MO; Des Moines, IA; Sioux Falls, SD; to Aberdeen, SD.

J-46 [Amended]

From Tulsa, OK, via Walnut Ridge, AR; Nashville, TN; to Volunteer, TN.

J-47 [Remove]

J-51 [Amended]

From INT Columbia 042° and Flat Rock, VA, 212° radials; Flat Rock; Nottingham, MD; Dupont, DE; to Yardley, NJ.

J-52 [Amended]

From Vancouver, BC, Canada; via Spokane, WA; Salmon, ID; Dubois, ID; Rock Springs, WY; Falcon, CO; Hugo, CO; Lamar, CO; Liberal, KS; INT Liberal 137° and Ardmore, OK, 309° radials; Ardmore; Texarkana, AR; Sidon, MS; Bigbee, MS; Vulcan, AL; Atlanta, GA; Colliers, SC; to Columbia, SC. From INT Columbia 042° and Flat Rock, VA 212° radials; Raleigh-Durham, NC; to Richmond, VA. The portion within Canada is excluded.

J-53 [Amended]

From INT Craig 347° and Colliers, SC, 174° radials; Colliers; Spartanburg, SC; to Pulaski, VA.

J-55 [Amended]

From Charleston, SC; Florence, SC; INT Florence 003° and Raleigh-Durham, NC, 224° radials; Raleigh-Durham; INT Raleigh-Durham 035° and Hopewell, VA, 234° radials; Hopewell; INT Hopewell 030° and Nottingham, MD, 174° radials. From Sea Isle, NJ; INT Sea Isle 050°and Hampton, NY, 223° radials; Hampton; Providence, RI; Boston, MA; Kennebunk, ME; to Presque Isle, ME.

J-73 [Amended]

From INT Seminole, FL 344° and Cross City, FL, 322° radials; La Grange, GA; Nashville, TN; Pocket City, IN; to Northbrook, IL.

J-75 [Amended]

From Greensboro, NC; Gordonsville, VA; INT Gordonsville 040° and Modena, PA, 231° radials; Modena; Solberg, NJ; Carmel, NY; INT Carmel 045° and Boston, MA, 252° radials; to Boston.

J-79 [Amended]

From Charleston, SC; Tar River, NC; Franklin, VA; Salisbury, MD; INT Salisbury 018°and Kennedy, NY, 218° radials; Kennedy; INT Kennedy 080°and Nantucket, MA, 254° radials; INT Nantucket 254° and Marconi, MA, 205° radials; Marconi; INT Marconi 006° and Bangor, ME, 206° radials; Bangor.

J-81 [Amended]

From INT Craig, FL, 347° and Colliers, SC, 174°, radials; Colliers.

J-85 [Amended]

From Alma, GA; Colliers, SC; Spartanburg, SC; Charleston, WV; INT Charleston 357° and Dryer, OH, 172° radials; Dryer.

J-89 [Amended]

From INT Atlanta, GA 161° and Alma, GA, 252° radials; Atlanta; Louisville, KY; Boiler, IN; Northbrook, IL; Badger, WI; Duluth, MN; to Winnipeg, MB, Canada. The portion within Canada is excluded.

J-91 [Amended]

From INT Cross City 338° and Atlanta, GA, 169° radials; Atlanta; Volunteer, TN; to Henderson, WV.

J-103 [Remove]

J-113 [Remove]

J-119 [Remove]

J-121 [Amended]

From Charleston, SC; Kinston, NC; Norfolk, VA; INT Norfolk 023° and Snow Hill, MD, 211° radials; Snow Hill; Sea Isle, NJ; INT Sea Isle 050° and Hampton, NY, 223° radials; Hampton; Sandy Point, RI; INT Sandy Point 031° and Kennebunk, ME, 190° radials; to Kennebunk.

J-151 [Amended]

From Vulcan, AL; Farmington, MO; St. Louis, MO; Kirksville, MO; Omaha, NE; O'Neil, NE; Rapid City, SD; Billings, MT; INT Billings 266° and Whitehall, MT, 103° radials; to Whitehall.

J-165 [Amended]

From INT Charleston, SC, 025° and Florence, SC, 085° radials to Richmond, VA.

J-174 [Amended]

From Charleston, SC; Wilmington, NC; Dixon NDB, NC; Norfolk, VA; INT Norfolk 023° and Snow Hill, MD, 211° radials; Snow Hill; Hampton, NY; INT Hampton 069° and Marconi, MA 228° radials; Marconi, to the INT of Marconi 090° and Nantucket, MA, 066° radials. The airspace below FL 240 is excluded between Snow Hill and lat. 38°45′00″ N, long. 74°43′59″ W. The airspace above FL 410 is excluded between Snow Hill and Hampton.

J-207 [Amended]

From Florence, SC; Raleigh-Durham, NC; to Franklin, VA.

J-208 [Remove]

J-209 [Amended]

From Raleigh-Durham, NC; Tar River, NC; Norfolk, VA; INT Norfolk 023° and Salisbury, MD, 199° radials; Salisbury; INT Salisbury 018° and Coyle, NJ, 226° radials; Coyle; to INT Coyle 036° and Robbinsville, NJ, 136° radials.

J-210 [Amended]

From Vance, SC; to Wilmington, NC.

J-614 [Remove]

J-616 [Remove]

* * * * *

Paragraph 2006 United States Area Navigation Routes.

* * * * *

Q-112 [Remove]

* * * * *

Issued in Washington, DC, on November 25, 2019.
Rodger A. Dean Jr.,
Manager, Rules and Regulations Group.

[FR Doc. 2019-25921 Filed 12-2-19; 8:45 am]

BILLING CODE 4910-13-P